DEPARTMENT OF LABOR

Employment and Training Administration

[TA-W-61,036]

Jones Apparel Group Incorporated, Internal Production Department, Bristol, PA; Notice of Revised Determination on Reopening

On July 10, 2007, the Department, on its own motion, reopened its investigation for the former workers of the subject firm.

The date of the petition filed with the Department on behalf of the workers of the subject firm was dated June 16, 2006. The petitioners provided evidence that their petition was submitted but not received and considered by the Department. Therefore, the Department instituted the petition for workers of the subject firm on February 27, 2007 (TA-W-61,036). The investigation resulted in a negative determination that was issued on March 20, 2007. The Department determined that from 2005 through February 2007, Jones Apparel Group Incorporated, Internal Production Department, Bristol, Pennsylvania, decreased employment and production of patterns and samples but did not import patterns and samples or shift that production abroad.

The Department has subsequently received documentation from Jones Apparel Group, Incorporated, that the firm increased imports of patterns and samples in 2006.

In addition, in accordance with Section 246 of the Trade Act of 1974 (26 U.S.C. 2813), as amended, the Department of Labor herein presents the results of its investigation regarding certification of eligibility to apply for alternative trade adjustment assistance (ATAA) for older workers.

In order for the Department to issue a certification of eligibility to apply for ATAA, the group eligibility requirements of Section 246 of the Trade Act must be met. The Department has determined in this case that the requirements of Section 246 have been met.

A significant number of workers at the firm are age 50 or over and possess skills that are not easily transferable. Competitive conditions within the industry are adverse.

Conclusion

After careful consideration of the facts obtained on reopening, I determine that there was an increase in imports of samples and patterns for women's apparel like or directly competitive with those produced by Jones Apparel Group, Incorporated, Internal Production Department, Bristol, Pennsylvania. In accordance with the provisions of the Act, I make the following revised determination:

“Workers engaged in the production of patterns and samples at Jones Apparel Group, Incorporated, Internal Production Department, Bristol, Pennsylvania, who became totally or partially separated from employment on or after June 16, 2005 through July 13, 2009, are eligible to apply for adjustment assistance under Section 223 of the Trade Act of 1974, and are also eligible to apply for alternative trade adjustment assistance under Section 246, of the Trade Act of 1974.”

Signed in Washington, DC, this 13th day of July 2007.
Linda G. Poole,
Certifying Officer, Division of Trade Adjustment Assistance.

[FR Doc. E7-14222 Filed 7-23-07; 8:45 am]

BILLING CODE 4510-FN-P